DEPARTMENT OF HEALTH AND HUMAN SERVICES

Centers for Disease Control and Prevention

[Program Announcement 04002]

Cooperative Agreement for Assessing Folic Acid Knowledge and Behaviors; Notice of Availability of Funds

Application Deadline: August 4, 2003.

A. Authority and Catalog of Federal Domestic Assistance Number

This program is authorized under section 301 and 317C of the Public Health Service Act, (2 U.S.C. 241 and 247b-4 of the PHS Act, as amended). The Catalog of Federal Domestic Assistance number is 93.283.

B. Purpose

The Centers for Disease Control and Prevention (CDC) announces the availability of fiscal year (FY) 2004 funds for a cooperative agreement program for the assessment of knowledge of the relationship between folic acid consumption and the prevention of spina bifida and anencephaly and the broad dissemination of findings for educational purposes. This program addresses the “Healthy People 2010” focus area of Maternal, Infant, and Child Health.

The purpose of this program is to provide for the evaluation of the effectiveness of public health programs to prevent birth defects through (1) an assessment of the current state of knowledge among reproductive-age women and their health care providers relative to folic acid consumption and the prevention of spina bifida and anencephaly; and, (2) the broad dissemination of findings to audiences who can use the findings for educational purposes.

Measurable outcomes of the program will be in alignment with the following performance goal for the National Center on Birth Defects and Developmental Disabilities (NCBDDD): Increase the consumption of folic acid among women of reproductive age to prevent serious birth defects.

C. Eligible Applicants

Assistance will be provided only to applicants that are well-established national, non-profit organizations with experience in: (1) Conducting birth defects prevention research; (2) conducting science-based educational outreach activities; and, (3) communicating research findings effectively to national, regional, state, and local level media outlets in coordination with partners.

To be eligible, applicants must:

1. Demonstrate that the organization's mission is explicitly committed to the prevention of birth defects. This may be demonstrated by submission of the charter, articles of incorporation, or other governing documents.

2. Demonstrate that the organization is a nonprofit and recognized as tax exempt under Section 501(C)(3) of the Internal Revenue Code. This may be demonstrated through inclusion of your Internal Revenue Service determination letter.

3. Demonstrate the organization has the capacity and experience providing health education to women who are at risk of having a Neural Tube Defects (NTD)-affected pregnancy. This may be demonstrated through letters of support.

4. Demonstrate that the organization has a national membership and a national network of local organizations. This may be done through a letter from the organization's leadership which describes the national network.

This information should be placed directly behind the face page (first page) of your application. Applications that do not include the above information will be determined as non responsive and will be returned without review.

Note: Title 2 of the United States Code Section 1611 states that an organization described in section 501(C)(4) of the Internal Revenue Code that engages in lobbying activities is not eligible to receive Federal funds constituting an award, grant or loan.

D. Funding

Availability of Funds

Approximately $180,000 is available in FY 04 to fund approximately one award. It is expected that the award will begin on or about December 1, 2003, and will be made for a 12-month budget period within a project period of up to five years. Funding estimates may change.

Continuation awards within an approved project period will be made on the basis of satisfactory progress as evidenced by required reports and the availability of funds.

Recipient Financial Participation

Matching funds are not required for this program.

E. Program Requirements

In conducting activities to achieve the purpose of this program, the recipient will be responsible for the activities listed in 1. Recipient Activities, and CDC will be responsible for the activities listed in 2. CDC Activities.

1. Recipient Activities

a. Conduct studies of women of reproductive age (18 to 45) to measure their awareness, knowledge, and behaviors related to folic acid, pregnancy, and birth defects' prevention.

b. Conduct studies to measure the awareness, knowledge, and practices of health care professionals and others who interact with women of reproductive age in health care/health education settings related to their knowledge of folic acid and birth defects prevention.

c. Develop surveys/studies of women of reproductive age.

d. Evaluate the results of surveys to determine if changes are occurring.

e. Publish the results of each survey and comparison analyses of the surveys in peer reviewed publications such as Teratology, Morbidity and Mortality Weekly Report (MMWR), etc.

f. Coordinate and collaborate with partners, including the National Center on Birth Defects and Developmental Disabilities (NCBDDD), to ensure effective dissemination of survey results to key audiences.

g. Use survey findings to encourage the development of new and/or enhanced birth defects prevention programs.

2. CDC Activities

a. Provide technical and scientific consultation and assistance for the implementation aspects of this project.

b. Provide technical and scientific consultation as needed in evaluating the indicators of changes in knowledge, attitude and behaviors of the general public, women who are at risk, and health care professionals.

c. Provide assistance in coordinating the release of survey findings with key partners so that wide dissemination occurs among key audiences.

d. Provide technical and scientific assistance for the evaluation and dissemination of the findings.

e. Provide technical and scientific assistance for the development of surveys/studies of women of reproductive age.

F. Content

Letter of Intent (LOI)

A letter of intent (LOI) is requested for this program. The LOI should identify the program announcement number and the proposed project director. The LOI should be no more than three pages, doubled spaced, printed on one side, with one-inch margins, and unreduced font. It should describe the intent of the proposed intervention, the target population, and describe those activities and collaborations already in place to fully meet the requirements of the announcement. The LOI will be used to determine the level of interest in the announcement, and assist CDC in the planning for the conduct of the application review process.

Application

The Program Announcement title and number must appear in the application. Use the information in the Program Requirements, Other Requirements, and Evaluation Criteria sections to develop the application content. Your application will be evaluated on the criteria listed, so it is important to follow them in laying out your program plan. The program plan should address activities to be conducted over the entire five year project period. The narrative should be no more than 30 pages, double spaced, printed on one side, with one-inch margins, and unreduced font. The narrative should consist of, at a minimum, the following elements:

1. Understanding of the Project.

2. Technical Approach.

3. Organizational Capacity.

4. Budget.

5. Human Subjects.

G. Submission and Deadline

Letter of Intent (LOI)

On or before July 7, 2003, submit the LOI to the Public Health Analyst identified in the “Where to Obtain Additional Information” section of this announcement.

Application Forms

Submit the signed original and two copies of PHS Form 5161-1 (OMB Number 0920-0428). Forms can be found at the following Internet address: www.cdc.gov/od/pgo/forminfo.htm. If you do not have access to the Internet, or if you have difficulty accessing the forms on-line, you may contact the CDC Procurement and Grants Office Technical Information Management Section (PGO-TIM) at 770-488-2700. Application forms can be mailed to you.

Application Submission Date, Time, and Address

The application must be received by 4 p.m. Eastern Time August 4, 2003. Submit the application to: Technical Information Management—PA #04002, Procurement and Grants Office, Centers for Disease Control and Prevention, 2920 Brandywine Road, Room 3000, Atlanta, GA 30341-4146.

Forms may not be submitted electronically.

CDC Acknowledgment of Application Receipt

A postcard will be mailed by PGO-TIM, notifying you that CDC has received your application.

Deadline

Letters of Intent and applications will be considered as meeting the deadline if they are received before 4:00 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition and will be returned. Applicants will be notified of their failure to meet the submission requirements.

H. Evaluation Criteria

Applicants are required to provide measures of effectiveness that will demonstrate the accomplishment of the various tasks of the cooperative agreement. Measures of effectiveness must relate to the performance goal as stated in section “B. Purpose” of this announcement. Measures must be objective and quantitative and must measure the intended outcome. These measures of effectiveness shall be submitted with the application and shall be an element of evaluation.

Each application will be evaluated individually against the following criteria by an independent review group appointed by CDC. It is suggested that applications be organized to be compatible with the evaluation scoring criteria, as that is the process by which the review committee will assess the quality of the applications.

1. Organizational Capacity—(50 Points)

The extent to which the applicant has described:

a. The qualifications and commitment of the organization to birth defects prevention.

b. The qualifications and commitment of the professional staff.

c. The allocation of time and effort of key project staff to agreed upon project activities.

d. Previous experience (of both the organization and the proposed staff) conducting survey research and disseminating research findings to multiple audiences to develop and/or improve educational efforts.

2. Understanding of the Project—(30 Points)

The applicant's understanding of the requirements, intent, and objectives for a successful project including:

a. The extent to which the applicant outlines a methodologically sound approach to conducting survey research activities.

b. The extent to which the applicant describes a plan for widely disseminating research findings to the public that is coordinated with NCBDDD and other key partners.

c. The extent to which the applicant describes a plan for using survey research findings to improve birth defects prevention educational efforts.

d. The extent to which the applicant describes processes that facilitate cooperation among partners and other funded agencies to standardize research and communication activities.

3. Technical Approach—(20 Points)

a. The extent to which the applicant describes its plan for carrying out the overall project, including study management, data collection, data analysis, and dissemination activities.

b. The extent to which the applicant describes ways they will monitor/evaluate implementation of their overall project plan (including research and dissemination activities).

c. The extent to which the applicant addresses the CDC Policy requirements regarding the inclusion of women, ethnic, and racial groups in the proposed research. This includes:

1. The proposed plan for the inclusion of both sexes and racial and ethnic minority populations for appropriate representation.

2. The proposed justification when representation is limited or absent.

3. A statement as to whether the design of the study is adequate to measure differences, when warranted.

4. A statement as to whether the plans for recruitment and outreach for study participants include the process of establishing partnerships with community(ies) and recognition of mutual benefits.

4. Budget (Not Scored)

The budget will be evaluated for the extent to which it is reasonable, clearly justified, and consistent with the intended use of the grant funds.

5. Human Subjects

Does the applicant adequately address the requirements of Title 45 CFR part 46 for the protection of human subjects. Not scored; however, an application can be disapproved if the research risks are sufficiently serious and protection against risks is so inadequate as to make the entire application unacceptable.

I. Other Requirements

Technical Reporting Requirements

Provide CDC with original plus two copies of:

1. Interim progress report, no less than 90 days before the end of the budget period. The progress report will serve as your noncompeting continuation application and must include the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

The following additional requirements are applicable to this program. For a complete description of each, see Attachment I of the announcement as posted on the CDC Internet address.

AR-1 Human Subjects Requirements

AR-2 Requirements for Inclusion of Women and Racial and Ethnic Minorities in Research

AR-9 Paperwork Reduction Act Requirement

AR-10 Smoke-Free Workplace Requirements

AR-11 Healthy People 2010

AR-12 Lobbying Restrictions

Executive Order 12372 does not apply to this program.

J. Where To Obtain Additional Information

This and other CDC announcements, the necessary applications, and associated forms can be found on the CDC home page Internet address— http://www.cdc.gov. Click on “Funding” then “Grants and Cooperative Agreements.”

For general questions about this announcement, contact: Technical Information Management, CDC Procurement and Grants Office, 2920 Brandywine Rd, Room 3000, Atlanta, GA 30341-4146, Telephone: 770-488-2700.

For business management assistance, contact: Sheryl L. Heard, Grants Management Specialist, Procurement and Grants Office, Centers for Disease Control and Prevention, 2920 Brandywine Road, Room 3000, Atlanta, GA 30341-4146, Telephone number: (770) 488-2723, E-mail address: slh3@cdc.gov.

For program technical assistance, contact: Stephanie Henry, Public Health Analyst, Division of Birth Defects and Developmental Disabilities, National Center on Birth Defects and Developmental Disabilities, Centers for Disease Control and Prevention, 4770 Buford Highway, NE., Mailstop F-45, Atlanta, GA 30341-3724, Telephone: (770) 488-7167, E-mail address: sxh1@cdc.gov.

Dated: May 30, 2003.
Edward Schultz,
Acting Director, Procurement and Grants Office, Centers for Disease Control and Prevention.

[FR Doc. 03-14124 Filed 6-4-03; 8:45 am]

BILLING CODE 4163-18-P